DEPARTMENT OF COMMERCE

National Oceanic and Atmospheric Administration

50 CFR Part 622

[Docket No. 1710319998630-02]

RIN 0648-XG821

Fisheries of the Caribbean, Gulf of Mexico, and South Atlantic; Snapper-Grouper Resources of the South Atlantic; 2019 Red Snapper Commercial and Recreational Fishing Seasons

AGENCY: National Marine Fisheries Service (NMFS), National Oceanic and Atmospheric Administration (NOAA), Commerce.

ACTION: Temporary rule; 2019 fishing seasons notification.

SUMMARY: NMFS announces the limited opening of commercial and recreational red snapper in the exclusive economic zone (EEZ) of the South Atlantic for the 2019 fishing year. This notice announces the red snapper commercial season opening date and the opening and closing dates for the red snapper recreational season, according to the accountability measures (AMs). This season announcement for South Atlantic red snapper allows fishers to maximize their opportunity to harvest the commercial and recreational annual catch limits (ACLs) while also managing harvest to protect the red snapper resource.

DATES: The 2019 commercial red snapper season opens at 12:01 a.m., local time, July 8, 2019. The 2019 recreational red snapper season opens at 12:01 a.m., local time, on July 12, 2019, and closes at 12:01 a.m., local time, on July 15, 2019; then reopens at 12:01 a.m., local time, on July 19, 2019, and closes at 12:01 a.m., local time, on July 21, 2019, unless changed by subsequent notification in the Federal Register.

FOR FURTHER INFORMATION CONTACT: Nikhil Mehta, NMFS Southeast Regional Office, telephone: 727-824-5305, email: nikhil.mehta@noaa.gov.

SUPPLEMENTARY INFORMATION: The South Atlantic snapper-grouper fishery includes red snapper and is managed under the Fishery Management Plan for the Snapper-Grouper Fishery of the South Atlantic Region (FMP). The South Atlantic Fishery Management Council prepared the FMP, and the FMP is implemented by NMFS under the authority of the Magnuson-Stevens Fishery Conservation and Management Act (Magnuson-Stevens Act) by regulations at 50 CFR part 622.

The final rule implementing Regulatory Amendment 43 to the FMP (83 FR 35428; July 26, 2018) describes red snapper management measures including the specific timing for red snapper commercial and recreational fishing seasons. The final rule also revised the commercial and recreational ACLs for red snapper. The commercial AM requires the sector to close when commercial landings reach or are projected to reach the commercial ACL. The recreational AM is the length of the recreational season, with NMFS projecting the season length based on catch rate estimates from previous years.

The commercial ACL is 124,815 lb (56,615 kg), and this ACL was not exceeded in 2018. The recreational ACL is 29,656 fish, and preliminary landings information show this ACL was exceeded in the 6-day fishing season in 2018. For 2019, NMFS has determined that the landings from the recreational sector is expected to reach the recreational ACL in 5 days.

For South Atlantic red snapper, the commercial season begins each year on the second Monday in July and closes when the commercial ACL is reached or is projected to be reached. Accordingly, the 2019 commercial season opens on July 8, 2019. The commercial season will remain open until 12:01 a.m., local time, on January 1, 2020, unless the commercial ACL is reached or projected to be reached prior to this date. During the commercial fishing season, the commercial trip limit is 75 lb (34 kg), gutted weight. NMFS will monitor commercial landings during the open season, and if commercial landings reach or are projected to reach the commercial ACL, then NMFS will file a notification with the Office of the Federal Register to close the commercial sector for red snapper for the remainder of the fishing year.

The recreational season begins on the second Friday in July. Accordingly, the 2019 recreational red snapper season opens at 12:01 a.m., local time, on July 12, 2019, and closes at 12:01 a.m., local time, on July 15, 2019; then reopens at 12:01 a.m., local time, on July 19, 2019, and closes at 12:01 a.m., local time, on July 21, 2019. During the recreational season, the recreational bag limit is one red snapper per person, per day. After the recreational sector closure, the bag and possession limits for red snapper are zero.

Additionally, during both the commercial and recreational open seasons, there is not a red snapper minimum or maximum size limit for either sector.

Classification

The Regional Administrator, Southeast Region, NMFS, has determined this temporary rule is necessary for the conservation and management of South Atlantic red snapper and is consistent with the Magnuson-Stevens Act and other applicable laws.

This action is taken under 50 CFR 622.183(b)(5)(i) and 622.193(y) and is exempt from review under Executive Order 12866.

These measures are exempt from the procedures of the Regulatory Flexibility Act because the temporary rule is issued without opportunity for prior notice and comment.

This action responds to the best scientific information available. The Assistant Administrator for Fisheries, NOAA (AA), finds that the need to implement the notice of the dates for the red snapper fishing seasons constitutes good cause to waive the requirements to provide prior notice and opportunity for public comment pursuant to the authority set forth in 5 U.S.C. 553(b)(B), because prior notice and opportunity for public comment on this temporary rule is unnecessary. Such procedures are unnecessary, because the rule establishing the red snapper ACLs and AMs has already been subject to notice and comment, and all that remains is to notify the public of the respective commercial and recreational fishing seasons. Additionally, announcing the fishing seasons now allows each sector to prepare for the upcoming harvest and provides opportunity to for-hire fishing vessels to book trips that could increase their revenues and profits.

Authority: 16 U.S.C. 1801 et seq.

Dated: February 28, 2019.
Karen H. Abrams,
Acting Director, Office of Sustainable Fisheries, National Marine Fisheries Service.

[FR Doc. 2019-03933 Filed 3-4-19; 8:45 am]

BILLING CODE 3510-22-P